DEPARTMENT OF ENERGY

Federal Energy Regulatory Commission

[Project No. 2778-035]

Idaho Power Company; Notice of Availability of Supplemental Environmental Assessment

December 4, 2007.

In accordance with the National Environmental Policy Act of 1969 and the Federal Energy Regulatory Commission (Commission or FERC) regulations contained in the Code of Federal Regulations (CFR) (18 CFR part 380 [FERC Order No. 486, 52 FR 47897]), the Office of Energy Projects staff (staff) issued the draft environmental assessment (EA) for the application for amendment of license on February 27, 2007, for the Shoshone Falls Project, located on the Snake River, Jerome and Twin Falls counties, Idaho. In addition, on March 2, 2007, pursuant to section 10(j) of the Federal Power Act, staff issued a notice the application has been accepted for filing and is ready for further environmental analysis and requested motions to intervene, protests, comments, recommendations, terms and conditions, and fishway prescriptions. Staff reviewed all motions to intervene, protests, comments, recommendations, terms and conditions, and fishway prescriptions comments filed pursuant to the issuance of the draft EA and prepared a supplemental EA for the project. In this supplemental EA, staff analyzes the potential environmental effects of the proposed amendment of license and concludes that the proposal would not constitute a major federal action significantly affecting the quality of the human environment.

A copy of the SEA is available for review at the Commission in the Public Reference Room, or it may be viewed on the Commission's Web site at http://www.ferc.gov using the e-Library link. Enter the docket number (P-2778) in the docket number field to access the document. For assistance, call (202) 502-8222 or (202) 502-8659 (for TTY). Any comments should be filed by January 21, 2008, and should be addressed to Secretary, Federal Energy Regulatory Commission, 888 First Street, NE., Washington, DC 20426. Please reference Shoshone Falls Project No. 2778-035, on all comments. For further information on this notice, please contact Rebecca Martin at (202) 502-6012, or at Rebecca.martin@ferc.gov.

Comments may be filed electronically via the Internet in lieu of paper. See 18 CFR 385.2001(a)(1)(iii) and instructions on the Commission's Web site at http://www.ferc.gov under the e-Filing link. The Commission strongly encourages electronic filings.

Kimberly D. Bose,
Secretary.

[FR Doc. E7-24025 Filed 12-11-07; 8:45 am]

BILLING CODE 6717-01-P